DEPARTMENT OF STATE

[Notice Number 3665]

Shipping Coordinating Committee; Notice of Meeting

The Shipping Coordinating Committee (SHC) will conduct an open meeting at 9:00 a.m. on Tuesday, 12 June, in Room 6301, at U.S. Coast Guard Headquarters, 2100 Second Street, SW., Washington, DC 20593-0001. The purpose of the meeting is to finalize preparations for the 50th Session of the Technical Cooperation Committee (TCC 50) and 86th Session of Council of the International Maritime Organization (IMO).

The TCC 50 meeting will be held at IMO Headquarters on 21 June 2001 and will focus on the following items:

—Technical Co-operation Programme (ITCP) for 2002-2003;

—Regional Co-ordination and Delivery including a review of IMO's pilot project on regional presence;

—IMO Women in Development Programme;

—Institutional Development and Fellowships;

—Report on the status of funding for the translation of model courses; and

—Election of the Chairman and Vice-Chairman of TCC for 2002.

The 86th Session of the Council is scheduled for 18-22 June 2001, at the IMO Headquarters in London. Items of interest include:

—Committees reports;

—Report on the International Conference on Liability and Compensation for Bunker Oil Pollution Damage;

—Work Program and Budget for 2002-2003;

—Review of the Organization's financial framework in accordance with Assembly resolution A.877(21);

—Report on the status of conventions and other multilateral instruments in respect of which the Organization performs its function;

—World Maritime University;

—IMO International Maritime Law Institute;

—Relations with intergovernmental and non-governmental organizations; and

—Assembly matters.

Members of the public may attend these meetings up to the seating capacity of the room. Interested persons may seek information by writing: Director, International Affairs, U.S. Coast Guard Headquarters, Commandant (G-CI), Room 2114, 2100 Second Street, SW., Washington, DC 20593-0001 or by calling: (202) 267-2280.

Dated: May 11, 2001.
Stephen M. Miller,
Executive Secretary, Shipping Coordinating Committee, Department of State.

[FR Doc. 01-12850 Filed 5-21-01; 8:45 am]

BILLING CODE 4710-01-P